DEPARTMENT OF DEFENSE

Department of the Navy

Notice of Intent To Grant Exclusive Patent License; Wartsila-Lips, Inc.

AGENCY: Department of the Navy, DoD.

ACTION: Notice.

SUMMARY: The Department of the Navy hereby gives notice of its intent to grant to Wartsila-Lips, Inc. a revocable, non-assignable, exclusive license in the United States to practice these Government-owned inventions in the field of use of shipboard mechanical seals, rudder stock seals, fin stabilizer seals, bulkhead seals, bow thruster seals, and pump seals, and described in: U.S. Patent No. 5,025,849, entitled “Centrifugal Casting of Composites,” issued June 25, 1991, Navy Case No. 70,890//U.S. Patent No. 6,129,134, entitled “Synthesis of Metal Matrix Composite,” issued October 10, 2000, Navy Case No. 79,069//U.S. Patent No. 6,129,135, entitled “Fabrication of Metal-Matrix Compositions,” issued October 10, 2000, Navy Case No. 77,732.

DATES: Anyone wishing to object to the grant of this license has fifteen (15) days from the date of this notice to file written objections along with supporting evidence, if any.

ADDRESSES: Written objections are to be filed with Carderock Division, Naval Surface Warfare Center, Code 3900, 9500 MacArthur Boulevard, West Bethesda, MD 20817-5700.

FOR FURTHER INFORMATION CONTACT: Mr. Dick Bloomquist, Director, Technology Transfer, Carderock Division, Naval Surface Warfare Center, Code 0117, 9500 MacArthur Boulevard, West Bethesda, MD 20817-5700, telephone (301) 227-4299.

Authority: 35 U.S.C. 207, 37 CFR part 404)

Dated: May 15, 2003.
P.C. Leblanc,
Lieutenant Commander, Judge Advocate General's Corps, U.S. Navy, Alternate Federal Register Liaison Officer.

[FR Doc. 03-13584 Filed 5-29-03; 8:45 am]

BILLING CODE 3810-FF-M